DEPARTMENT OF COMMERCE

International Trade Administration

[C-570-076]

Certain Plastic Decorative Ribbon From the People's Republic of China: Final Results of Expedited First Sunset Reviews of the Countervailing Duty Order

AGENCY: Enforcement and Compliance, International Trade Administration, Department of Commerce.

SUMMARY: The U.S. Department of Commerce (Commerce) finds that revocation of the countervailing duty (CVD) order on certain plastic decorative ribbon (plastic ribbon) from the People's Republic of China (China) would be likely to lead to continuation or recurrence of countervailable subsidies at the levels indicated in the “Final Results of Sunset Review” section of this notice.

DATES: Applicable June 7, 2024.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On March 22, 2019, Commerce published the CVD order on plastic ribbon from China.¹ On February 1, 2024, Commerce published the notice of initiation of the first five-year sunset review of the Order, pursuant to section 751(c) of the Tariff Act of 1930, as amended (the Act).² On February 14, 2024, Commerce received a timely notice of intent to participate from Berwick Offray LLC (domestic interested party) within the deadline specified in 19 CFR 351.218(d)(1)(i).³ The domestic interested party claimed interested party status under section 771(9)(C) of the Act and 19 CFR 351.102(b)(29)(v), as domestic producers of plastic ribbon in the United States.

¹ See Certain Plastic Decorative Ribbon from the People's Republic of China: Amended Final Affirmative Antidumping Duty Determination and Antidumping Duty Order; and Countervailing Duty Order, 84 FR 10786 (March 22, 2019) (Order).

² See Initiation of Five-Year (Sunset) Reviews, 89 FR 6499 (February 1, 2024).

³ See Domestic Interested Party's Letter, “Plastic Decorative Ribbons from China: Notice of Intent to Participate in Sunset Review,” dated February 14, 2024.

Commerce received a substantive response from the domestic interested party within the 30-day deadline specified in 19 CFR 351.218(d)(3)(i).⁴ We received no substantive response from the Government of China or any other interested party in this proceeding.⁵ As a result, pursuant to section 751(c)(3)(B) of the Act and 19 CFR 351.218(e)(1)(ii)(C)(2), we determined that the respondent interested parties did not provide an adequate response to the notice of initiation and, therefore, Commerce conducted an expedited (120-day) sunset review of the Order.

⁴ See Domestic Interested Party's Letter, “Plastic Decorative Ribbons from China: Substantive Response to Notice of Initiation of Sunset Review,” dated March 1, 2024.

⁵ See Commerce's Letter, “Sunset Reviews for February 2024,” dated March 22, 2024; see also 19 CFR 351.218(e)(1)(ii)(B)(2); and 19 CFR 351.218 (e)(1)(ii)(C)(2).

Scope of the Order

The product covered by the Order is plastic ribbon from China. For a complete description of the scope of the Order, see the Issues and Decision Memorandum.⁶

⁶ See Memorandum, “Issues and Decision Memorandum for the Final Results of the Expedited First Sunset Review of the Countervailing Duty Order on Certain Plastic Decorative Ribbon from the People's Republic of China,” dated concurrently with, and hereby adopted by, this notice (Issues and Decision Memorandum).

Analysis of Comments Received

All issues raised in this sunset review are addressed in the Issues and Decision Memorandum. A list of topics discussed in the Issues and Decision Memorandum is included in the appendix to this notice. The Issues and Decision Memorandum is a public document and is on file electronically via the Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Reviews

Pursuant to sections 751(c)(1) and 752(b) of the Act, we determine that revocation of the Order would be likely to lead to continuation or recurrence of countervailable subsidies at the following net countervailable subsidy rates:

Company | Subsidy rate (percent)
Seng San Enterprises Co., Ltd | 18.03
Joynice Gifts & Crafts Co., Ltd | 14.27
Santa's Collection Shaoxing Co., Ltd | 94.67
All Others | 16.15

Administrative Protective Order (APO)

This notice serves as the only reminder to parties subject to an APO of their responsibility concerning the return or destruction of proprietary information disclosed under an APO in accordance with 19 CFR 351.305(a). Timely notification of the return or destruction of APO materials or conversion to judicial protective order is hereby requested. Failure to comply with the regulations and terms of an APO is a violation which is subject to sanction.

Notification to Interested Parties

We are issuing and publishing the final results and this notice in accordance with sections 751(c), 752(b), and 777(i)(1) of the Act, and 19 CFR 351.218.

Dated: May 31, 2024.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2024-12518 Filed 6-6-24; 8:45 am]

BILLING CODE 3510-DS-P